DEPARTMENT OF COMMERCE

National Oceanic and Atmospheric Administration

50 CFR Part 648

[I.D. 011900C]

Fisheries of the Northeastern United States; Deep-sea Red Crab Fishery; Scoping Process

AGENCY: National Marine Fisheries Service (NMFS), National Oceanic and Atmospheric Administration (NOAA), Commerce.

ACTION: Notice of intent to prepare an Environmental Impact Statement (EIS) and notice of scoping process; request for comments.

SUMMARY: The New England Fishery Management Council (Council) announces its intention to prepare a Fishery Management Plan (FMP) for deep-sea red crab (Chaceon quinquedens) and to prepare an EIS, if necessary, to analyze the impacts of any proposed management measures. The FMP would be developed pursuant to the Magnuson-Stevens Fishery Conservation and Management Act (Magnuson-Stevens Act). The Council also formally announces a public process to determine the scope of issues to be addressed in the environmental impact analyses. The purpose of this notification is to alert the interested public of the commencement of the scoping process and to provide for public participation in compliance with environmental documentation requirements.

DATES: The Council will discuss and take scoping comments at public meetings in February 2000. See SUPPLEMENTARY INFORMATION for specific dates and times. Written scoping comments must be received at the appropriate address or fax number (see ADDRESSES) on or before 5:00 p.m., local time, February 21, 2000.

ADDRESSES: The Council will discuss and take scoping comments at public meetings in New Hampshire and Massachusetts. See SUPPLEMENTARY INFORMATION for specific locations. Written comments and requests for copies of the scoping document and other information should be directed to Paul J. Howard, Executive Director, New England Fishery Management Council, 50 Water Street, Mill 2, Newburyport, MA 01950, Telephone (978) 465-0492. Comments may also be sent via facsimile (fax) to (978) 465-3116. Comments will not be accepted if submitted via e-mail or Internet.

FOR FURTHER INFORMATION CONTACT: Paul J. Howard, (978) 465-0492.

SUPPLEMENTARY INFORMATION:

Background

The deep-sea red crab (Chaceon quinquedens) is a deep-water benthic species that supports a small commercial fishery on the Atlantic coast in southern New England and on the southern slope of Georges Bank. Although not regulated, the commercial fishery appears to be limited to approximately six vessels, with some possible seasonal participation by offshore lobster vessels. There is no FMP for red crab.

Information is scarce for this resource, but recent annual landings appear to be close to estimates of maximum sustainable yield (MSY) (5.5 mil lb (2.5 mil kg)). Current capacity in this fishery is sufficient to harvest or exceed MSY; there is concern about excess harvesting capacity entering this fishery. The Council is considering development of a controlled access system in the red crab fishery to address the principle of matching capacity to sustainable harvest level. The limitation of entry into the fishery may be based on levels of participation or other criteria, such as domestic harvest capacity. The Council will consider other management measures (e.g., minimum size, quotas, trap limits and/or requirements, fishing seasons, etc.) as appropriate.

Scoping Process

All persons affected by or otherwise interested in red crab fishery management are invited to participate in determining the scope and significance of issues to be analyzed by submitting written comments (see ADDRESSES) or attending one of the scoping meetings. Scope consists of the range of actions, alternatives, and impacts to be considered. Alternatives include preparing an FMP that contains management measures such as the ones previously mentioned in this notice; preparing an FMP that does not contain management measures, but that has a framework procedure for the development of such measures in the future; not preparing an FMP at this time; or other reasonable courses of action. Impacts may be direct, indirect, individual, or cumulative. The scoping process also will identify and eliminate from detailed study issues that are not significant. If, after the scoping process is completed, the Council proceeds with the development of an FMP, the Council will prepare an EIS or Environmental Assessment, as appropriate, depending on the nature of the FMP to be developed. The Council will hold public hearings to receive comments on the draft FMP and the analysis of its impacts on the human environment.

Public Meeting Schedule

The Council will discuss and take scoping comments at public meetings as follows:

February 11, 2000, 1:00 p.m., Urban Forestry Center, State of New Hampshire Division of Parks and Lands, 45 Elwyn Road, Portsmouth, NH 03801, (603) 431-6774 and

February 14, 2000, 1:00 p.m., Center for Marine Science and Technology (CMAST), University of Massachusetts, 706 South Rodney French Boulevard, New Bedford, MA, (508) 999-8193.

Additional scoping meetings may be scheduled as needed.

Special Accommodations

The meetings are physically accessible to people with disabilities. Requests for sign language interpretation or other auxiliary aids should be directed to Paul J. Howard (see ADDRESSES) at least 5 days prior to the meeting date.

Authority: 16 U.S.C. 1801 et seq.

Dated: January 27, 2000.
Bruce C. Morehead,
Acting Director, Office of Sustainable Fisheries, National Marine Fisheries Service.

[FR Doc. 00-2275 Filed 2-1-00; 8:45 am]

BILLING CODE 3510-22-F